GENERAL SERVICES ADMINISTRATION

[Bulletin FMR 2008-B5]

Real Property Asset Management Guiding Principles

AGENCY: General Services Administration.

ACTION: Notice.

SUMMARY: This bulletin cancels GSA Bulletin FMR Bulletin 2006-B5, Real Property Asset Management Principles, published in the Federal Register on June 16, 2006, that introduced new Guiding Principles case studies to help Federal agencies manage and improve real property performance effectively in support of Executive Order 13327, “Federal Real Property Asset Management.” This bulletin updates the case studies to provide current asset management examples and best practices.

EFFECTIVE DATE: August 8, 2008.

FOR FURTHER INFORMATION CONTACT: For further clarification of content, contact Stanley C. Langfeld, Director, Regulations Management Division (MPR), General Services Administration, Washington, DC 20405; or stanley.langfeld@gsa.gov.

Dated: July 28, 2008.
Kevin Messner,
Acting Associate Administrator, Office of Governmentwide Policy.

BILLING CODE 6820-RH-P

[FR Doc. E8-18350 Filed 8-7-08; 8:45 am]

BILLING CODE 6820-RH-C